DEPARTMENT OF EDUCATION

[Docket No.: ED-2016-ICCD-0148]

Agency Information Collection Activities; Submission to the Office of Management and Budget for Review and Approval; Comment Request; Migrant Education Program Regulations and Certificate of Eligibility

AGENCY: Office of Elementary and Secondary Education (OESE), Department of Education (ED).

ACTION: Notice.

SUMMARY: In accordance with the Paperwork Reduction Act of 1995, ED is proposing a revision of an existing information collection.

DATES: Interested persons are invited to submit comments on or before May 5, 2017.

ADDRESSES: To access and review all the documents related to the information collection listed in this notice, please use http://www.regulations.gov by searching the Docket ID number ED-2016-ICCD-0148. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-82, Washington, DC 20202-4537.

FOR FURTHER INFORMATION CONTACT: For specific questions related to collection activities, please contact Sarah Martinez, 202-260-1334.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Migrant Education Program Regulations and Certificate of Eligibility.

OMB Control Number: 1810-0662.

Type of Review: A revision of an existing information collection.

Respondents/Affected Public: Individual or Households; State, Local, and Tribal Governments.

Total Estimated Number of Annual Responses: 132,846.

Total Estimated Number of Annual Burden Hours: 564,400.

Abstract: This collection of information is necessary to collect information under the Title I, Part C Migrant Education Program (MEP). The MEP is authorized under sections 1301-1309 of Part C of Title I of the Elementary and Secondary Education Act (ESEA), as amended. Regulations for the MEP are found at 34 CFR 200.81-200.89. This information collection covers regulations with information collection requirements which pertain to information that State educational agencies (SEAs) must collect in order to properly administer the MEP: 34 CFR 200.83, 200.84, 200.88, and 200.89(b)-(d). Most provisions do not require SEAs to submit the information collected to the Department, with the exception of the provisions under 34 CFR 200.89(b).

The Department is requesting a revision to this currently approved information collection in order to address changes to MEP eligibility made by the Every Student Succeeds Act (ESSA), which reauthorizes and amends the authorizing statute, ESEA. The changes to MEP eligibility criteria must be reflected on the national Certificate of Eligibility (COE), which is an information collection required by 34 CFR 200.89(c).

There was an overall reduction in SEA burden and responses. The reduction in burden and responses was achieved not as a result of deliberate Federal government action, but rather due to decreases in the number of eligible migratory children, the number of SEAs participating in the MEP, and the number of SEAs that the Department expects will be required to implement retrospective re-interviewing. The burden per respondent for the COE as described in 34 CFR 200.89(c) remains the same because although some additional burden is incurred as a result of the added questions (needed to demonstrate compliance with the new statutory language in ESSA), there was an equivalent reduction in burden achieved by the removal of previously included questions (which were needed to demonstrate compliance with the statute, prior to its amendment by ESSA). The annualized burden of 34 CFR 200.83, 200.84, and 200.88 was changed due to those costs occurring at least once per ESEA authorization period of four years (previously six years).

Dated: March 31, 2017.
Stephanie Valentine,
Acting Director, Information Collection Clearance Division, Office of the Chief Privacy Officer, Office of Management.

[FR Doc. 2017-06694 Filed 4-4-17; 8:45 am]

BILLING CODE 4000-01-P